DEPARTMENT OF TRANSPORTATION

Federal Aviation Administration

14 CFR Part 39

[Docket No. 2001-SW-09-AD]

RIN 2120-AA64

Airworthiness Directives; Agusta S.p.A. Model A109E Helicopters

AGENCY: Federal Aviation Administration, DOT.

ACTION: Notice of proposed rulemaking (NPRM).

SUMMARY: The FAA proposes the adoption of a new airworthiness directive (AD) for Agusta S.p.A. Model A109E helicopters. The proposed AD would require modifying the passenger compartment sliding doors by installing certain locking mechanism kits. The proposed AD is prompted by accidental opening of a passenger compartment sliding door (door) inflight due to a door locking mechanism that is too easy to accidentally open. The actions specified by the proposed AD are intended to prevent accidental opening of a door in flight and subsequent loss of objects that could damage the rotor system.

DATES: Submit any comments on this proposal by August 24, 2001.

ADDRESSES: Submit comments in triplicate to the Federal Aviation Administration (FAA), Office of the Regional Counsel, Southwest Region, Attention: Rules Docket No. 2001-SW-09-AD, 2601 Meacham Blvd., Room 663, Forth Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Richard Monschke, Aviation Safety Engineer, FAA, Rotorcraft Directorate, Rotorcraft Standards Staff, Fort Worth, Texas 76193-0110, telephone (817) 222-5116, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2001-SW-09-AD.” The postcard will be date stamped and returned to the commenter.

Availability of NPRMs

Any person may obtain a copy of this NPRM by submitting a request to the FAA, Office of the Regional Counsel, Southwest Region, Attention: Rules Docket No. 2001-SW-09-AD, 2601 Meacham Blvd., Room 663, Fort Worth, Texas 76137.

Discussion

Ente Nazionale per l'Aviazione Civile (ENAC), the airworthiness authority for Italy, notified us that an unsafe condition might exist on Agusta S.p.A. Model A109E helicopters. ENAC advises modifying the doors installed on Agusta S.p.A. Model A109E helicopters up to serial number (S/N) 11099 inclusive.

Agusta S.p.A. has issued Bolletino Tecnico No. 109EP-16, dated December 21, 2000 (BT). This BT specifies modifying the opening/closing mechanism of the doors with the double-action (pull and turn) system to avoid accidental actuation of the internal handles. ENAC classified this BT as mandatory and issued AD No. 2001-019, dated January 5, 2001, to ensure the continued airworthiness of these helicopters in Italy.

This helicopter model is manufactured in Italy and is type certified for operation in the United States under the provisions 14 CFR 21.29 and the applicable bilateral airworthiness agreement. Pursuant to this bilateral airworthiness agreement, ENAC has kept the FAA informed of the situation described above. The FAA has examined the findings of ENAC, reviewed all available information, and determined that AD action is necessary for products of this type design that are certificated for operation in the United States.

We have identified an unsafe condition that is likely to exist or develop on other Agusta S.p.A. Model A109E helicopters of this same type design registered in the United States. Unintentional door opening could allow items to be lost from the passenger compartment, and subsequent impact with the main or tail rotors. The proposed AD would require modifying the doors installed on Agusta S.p.A. Model A109E helicopters up to an including S/N 11099 by installing door-locking mechanism kits, part number 109-0823-03-101 and -102, within 90 days. The actions would have to be accomplished in accordance with the BT described previously.

Regulatory Impact

We estimate that 11 helicopters of U.S. registry would be affected by this proposed AD and that it would take approximately 8 work hours per helicopter to modify the doors. The average labor rate is $60 per work hour. The manufacturer states in its ASB that it will reimburse 8 work hours at $40 per work hour. The manufacturer also states in its ASB that the parts will be supplied to modify the locking mechanism on the doors. Based on these figures, the total cost impact of the proposed AD on U.S. operators is estimated to be $1760.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. You can get a copy obtained by contacting the Docket at the mailing address listed under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Agusta S.p.A: Docket No. 2001-SW-09-AD.

Applicability: Model A109E helicopters, up to and including serial number 11099, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. Your request should include an assessment of the effect of the modification, alteration, or repair on the unsafe condition addressed by this AD; and if the unsafe condition has not been eliminated the request should include specific proposed actions to address it.

Compliance: Required within 90 days, unless accomplished previously.

To prevent accidental opening of a passenger compartment (door) during flight, accomplish the following:

(a) Modify each passenger compartment sliding door by installing locking mechanism kits, part number (P/N) 109-0823-03-101 and -102, in accordance with the Compliance Instruction of Agusta Bollettino Tecnico No. 109EP-16, dated December 21, 2000 (BT).

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(c) Special flight permits may be issued in accordance with 14 CFR 21.197 and 21.199 to operate the helicopter to a location where the requirements of this AD can be accomplished.

Note 3: The subject of this AD is addressed in Ente Nazionale per l'Aviazione Civile (Italy) AD 2001-019, dated January 5, 2001.

Issued in Fort Worth, Texas, on June 12, 2001.
Eric Bries,
Acting Manager, Rotorcraft Directorate, Aircraft Certification Service.

[FR Doc. 01-15796 Filed 6-22-01; 8:45 am]

BILLING CODE 4910-13-U